DEPARTMENT OF ENERGY

[OE Docket No. EA-345]

Application To Export Electric Energy; New Brunswick Power Generation Corporation

AGENCY: Office of Electricity Delivery and Energy Reliability, DOE.

ACTION: Notice of application.

SUMMARY: New Brunswick Power Generation Corporation (NB Power) has applied for authority to transmit electric energy from the United States to Canada pursuant to section 202(e) of the Federal Power Act.

DATES: Comments, protests, or requests to intervene must be submitted on or before December 5, 2008.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office), 202-586-9624 or Michael Skinker (Program Attorney), 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On October 17, 2008, DOE received an application from NB Power for authority to transmit electric energy from the United States to Canada. NB Power, a Canadian corporation, is a generation, transmission, and distribution company in New Brunswick Province, Canada. NB Power proposes to export surplus electric energy purchased from electric utilities and other suppliers within the U.S. and export the energy on its own behalf to Canada. NB Power has requested an electricity export authorization with a 5-year term. NB Power does not own or control any electric generation, transmission, or distribution assets, nor does it have a franchised service area. The electric energy which NB Power proposes to export to Canada would be surplus energy purchased from electric utilities, Federal power marketing agencies, and other entities within the United States.

NB Power will arrange for the delivery of exports to Canada over the international transmission facilities owned by Basin Electric Power Cooperative, Bonneville Power Administration, Eastern Maine Electric Cooperative, International Transmission Co., Joint Owners of the Highgate Project, Long Sault, Inc., Maine Electric Power Company, Maine Public Service Company, Minnesota Power, Inc., Minnkota Power Cooperative, Inc., New York Power Authority, Niagara Mohawk Power Corp., Northern States Power Company, Vermont Electric Power Company, and Vermont Electric Transmission Co.

The construction, operation, maintenance, and connection of each of the international transmission facilities to be utilized by NB Power has previously been authorized by a Presidential permit issued pursuant to Executive Order 10485, as amended.

NB Power has recently been granted market-based rate authority by the Federal Energy Regulatory Commission and is scheduled to become a member of ISO New England on December 1, 2008. Accordingly, NB Power has requested expedited consideration of its export application in order that it may participate in the ISO New England market as soon as its membership in ISO New England becomes effective. In response to NB Power's request, DOE has shortened the public comment period to 15 days.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the NB Power application to export electric energy to Canada should be clearly marked with Docket No. EA-345. Additional copies are to be filed directly with Bonnie A. Suchman, Troutman Sanders LLP, 401 9th Street, NW., Suite 1000, Washington, DC 20004.

A final decision will be made on this application after the environmental impacts have been evaluated pursuant to the National Environmental Policy Act of 1969 and a determination is made by DOE that the proposed action will not adversely impact the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on November 14, 2008.
Anthony J. Como,
Director, Permitting and Siting, Office of Electricity Delivery and Energy Reliability.

[FR Doc. E8-27590 Filed 11-19-08; 8:45 am]

BILLING CODE 6450-01-P